DEPARTMENT OF COMMERCE

National Institute of Standards and Technology

Proposed Information Collection; Comment Request; NIST-366A Form

AGENCY: National Institute of Standards and Technology, U.S. Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 5, 2020.

ADDRESSES: Direct all written comments to Elizabeth Reinhart, Management Analyst, National Institute of Standards and Technology, 100 Bureau Drive, Gaithersburg, MD 20889-1710, (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Steven Dewey at the NIST Center for Neutron Research (NCNR) Health Physics, Mail Stop 6100, 100 Bureau Drive, Gaithersburg, MD 20878, 301-975-5810, Steven.Dewey@nist.gov.

SUPPLEMENTARY INFORMATION:

I. Abstract

This request is to seek clearance for the collection of routine information requested of individuals (including but not limited to federal employees, visitors, contractors, associates) who work with or around sources of ionizing radiation on the NIST campus.

The information is collected for the following purposes:

(1) NIST is required by 10 CFR 20.1502 to monitor individuals who may be exposed to ionizing radiation above specific levels. This form will be used to collect information associated with this monitoring and to determine the type of monitoring required.

(2) NIST is required by 10 CFR 20.2106 to maintain records of radiation exposure monitoring. This form will be used to ensure the exposure information collected is properly associated with the individual using unique identifiers. In addition, NIST must provide reports to the monitored individuals when requested and to the NRC annually. This form will be used to ensure the correct information is provided to the individual.

II. Method of Collection

The information will be collected in paper format and electronically as a pdf form.

III. Data

OMB Control Number: New Collection 0693-XXXX.

Form Number(s): NIST-366A.

Type of Review: Regular submission, information collection.

Affected Public: Individuals.

Estimated Number of Respondents: 800 per year.

Estimated Time per Response: 5 minutes.

Estimated Total Annual Burden Hours: 67 hours.

Estimated Total Annual Cost to Public: $0.

IV. Request for Comments

NIST invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-04598 Filed 3-5-20; 8:45 am]

BILLING CODE 3510-13-P